Proclamation 9614 of May 19, 2017

World Trade Week, 2017

By the President of the United States of America

A Proclamation

Robust trade is critical to the economic strength of our country. During World Trade Week, we recognize the power of open markets around the world and celebrate the many benefits that fair international commerce can bring to our Nation. We also highlight the importance of expanded trade to our economic growth, and we commit to breaking down trade barriers and opening new markets for American exports.

Open, fair, and competitive markets increase opportunities for American workers and employers and contribute to a higher standard of living. Job creation with increased wages is a top priority of my Administration, and increasing trade—while reducing our trade deficit—is a key component of that mission. We will promote our economic growth by strengthening our manufacturing base and expanding exports in manufacturing, agriculture, and the service industries. We will also challenge unfair trade practices that leave American workers, farmers, and businesses competing in global markets at a disadvantage.

Trade has a large role in the United States economy today, but it can be even greater. Our exports contribute $2.2 trillion, or 12 percent, to our national income, supporting 11.5 million private-sector jobs. Manufacturing exports total $1.265 trillion, behind only China and Germany. The United States leads the world in both agricultural exports, which currently total $139 billion, and services exports, at $750 billion today. The United States, however, has a large and persistent trade deficit in manufacturing, overall as well as with certain trading partners. Through an increased commitment to opening markets, reducing barriers to our goods, and firmly addressing unfair trade practices, we can do far better for American workers and manufacturers.

My Administration will negotiate future trade agreements that ensure that all Americans reap the benefits of global commerce. This includes small businesses, which are the backbone of our economy. While past agreements have not always accounted for the consequential effects of trade on small businesses and the American workforce, future agreements will.

NOW, THEREFORE, I, DONALD J. TRUMP, President of the United States of America, by virtue of the authority vested in me by the Constitution and the laws of the United States, do hereby proclaim May 21 through May 27, 2017, as World Trade Week. I encourage Americans to observe this week with events, trade shows, and educational programs that celebrate the benefits of trade to our country.

IN WITNESS WHEREOF, I have hereunto set my hand this nineteenth day of May, in the year of our Lord two thousand seventeen, and of the Independence of the United States of America the two hundred and forty-first.

[FR Doc. 2017-10848

Filed 5-23-17; 11:15 am]

Billing code 3295-F7-P